DEPARTMENT OF THE INTERIOR

Bureau of Land Management

[UTU-080-2007-9141-EJ]

Notice of Intent To Prepare an Environmental Impact Statement (EIS) and To Conduct Public Scoping for the Natural Buttes Area Gas Development Project, Uintah County, UT

AGENCY: Bureau of Land Management, Interior.

ACTION: Notice of Intent (NOI).

SUMMARY: Pursuant to Section 102(2)(C) of the National Environmental Policy Act (NEPA) of 1969, the Bureau of Land Management (BLM), Vernal Field Office, Vernal, Utah, will prepare an EIS on the impacts of efficient and orderly development of the natural gas resources of the Greater Natural Buttes Field area. This notice announces the public scoping period.

DATES: A public scoping period of 30 days will commence on the date this notice is published by the Environmental Protection Agency (EPA) in the Federal Register. Comments on issues, potential impacts, or suggestions for alternatives can be submitted in writing to the address listed below within 30 days of the date this Notice is published. A public meeting will be conducted during the scoping period in Vernal. The date, place, and time will be announced through the local news media and the BLM Web site http://www.blm.gov/utah/vernal/nepa.html at least 15 days prior to the meeting.

ADDRESSES: Comments may be submitted by any of the following methods:

• Mail: Bureau of Land Management, Vernal Field Office, 170 South 500 East, Vernal, Utah 84078.

• E-mail: UT_Vernal_Comments@blm.gov.

• Fax: (435) 781-4410.

Please reference the Greater Natural Buttes Area when submitting your comments. Comments and information submitted, including names, e-mail addresses, and street addresses of respondents, will be available for public review at the address listed above. The BLM will not accept anonymous comments. Before including your address, phone number, e-mail address, or other personal identifying information in your comment, you should be aware that your entire comment—including your personal identifying information—may be made publicly available at any time. While you can ask us in your comment to withhold your personal identifying information from public review, we cannot guarantee that we will be able to do so. All submissions from organizations and businesses, and from individuals identifying themselves as representatives or officials of organizations or businesses, will be available for public inspection in their entirety.

FOR FURTHER INFORMATION CONTACT: Stephanie Howard, Project Manager, BLM Vernal Field Office, 170 South 500 East, Vernal, UT 84078. Ms. Howard may also be reached at 435-781-4400.

SUPPLEMENTARY INFORMATION: This document provides notice that the BLM, Vernal Field Office, Vernal, UT, intends to prepare an EIS, and announces the public scoping period. The purpose of the public scoping process is to determine relevant issues that will influence the scope of the environmental analysis and EIS alternatives. You may submit comments in writing to the BLM at the public scoping meeting, or you may submit them to the BLM using one of the methods listed in the ADDRESSES section above. The public is encouraged to participate during the scoping process to help identify issues of concern related to the proposed action, determine the depth of the analysis needed for issues addressed in the EIS, identify potential mitigation measures, and identify reasonable alternatives to be evaluated in the EIS.

Proposed Project Description: The EIS will encompass 162,911 acres in Townships 8 through 11 South, Ranges 20 through 24 East (Salt Lake Meridian) in Uintah County, Utah. The project is located on lands administered by the BLM (88,565 acres), Northern Ute Tribe as administered by the BIA (39,399 acres), the State of Utah (32,755 acres), and private interests (2,192 acres). Mineral interests are owned by the BLM (79 percent), the State of Utah (20 percent), and private interests (one percent). The Natural Buttes gas field was discovered in the 1950s and has produced around 1.0 trillion cubic feet of natural gas and 5.0 million barrels of crude oil and condensate and is among the top 15 gas fields in the United States in terms of natural gas reserves. As of August 2006, the Greater Natural Buttes Area contained approximately 1,077 producing gas wells and 20 oil wells.

Kerr-McGee Oil & Gas Onshore LP (KMG) a wholly-owned subsidiary of Anadarko Petroleum Corporation proposes to conduct infill drilling to develop the hydrocarbon resources from oil and gas leases within the Greater Natural Buttes Project Area in Uintah County, Utah. KMG's intent is to explore and develop potentially productive subsurface formations underlying the land in the Greater Natural Buttes Project Area. Although actual operations are subject to change as the project proceeds, KMG's plan is to drill 3,496 additional wells over a period of 10 years. It is assumed that up to 179 new wells would be drilled by other operators having leasehold rights in the project area. The productive life of each well is estimated to be approximately 30 to 50 years.

Infill drilling would be performed on 40-acre and 20-acre surface spacing throughout the project area, i.e., with 16 to 32 surface well pads per section. KMG defines a 40-acre well pad as the first well pad located in a governmental 40-acre quarter-quarter section. A 20-acre pad is defined as the second well pad located in a 40-acre quarter-quarter section. Well spacing in the subsurface would be based on the KMG's reservoir engineering evaluation on an on-going basis and will be site-dependent, potentially ranging from 16 wells per section (40-acre spacing) to 64 wells per section (10-acre spacing) or more.

Project development would utilize existing roads and, when necessary, new roads would be constructed. Equipment required by most wells includes a gas gathering line, a separator, gas meter, produced water and liquid hydrocarbon storage tanks, and chemical tanks. Gas would be transported via pipeline to centralized compression and treatment facilities. Produced water would be transported by truck or pipeline to the KMG-operated produced water disposal wells or to KMG-owned or commercially owned evaporation ponds or disposal wells. To minimize new disturbance, KMG would utilize the existing ancillary facility infrastructure within the project area, where possible, including gas compression facilities, power lines, water disposal and treatment facilities, and gas gathering pipelines. Total surface disturbance for the proposed project is estimated to be 7,804 acres, or approximately 5% of the project area.

Relationship to Existing Plans and Documents: The Book Cliffs Resource Management Plan (RMP) Record of Decision (ROD) (May 1985) directs management of BLM-administered public lands within the analysis area. Implementation of oil and gas development in the Greater Natural Buttes Project Area would conform to conditions and requirements mandated in the RMP and ROD. The ROD calls for oil and gas, tar sands, oil shale, and gilsonite to be leased while other resource values will be protected or mitigated (page 7 of the ROD).

Identified Resource Management Issues, Concerns, and Opportunities: The following resources have been identified as potentially impacted by the Vernal Field Office. It is not meant to be an all-inclusive list, but rather a starting point for public input and a means of identifying the resource disciplines needed to conduct the analysis. The potentially impacted resources include: air quality, cultural resources, livestock grazing, paleontological resources, recreation, socioeconomics, soil resources, special designations (potential Area of Critical Environmental Concern and eligible Wild and Scenic River segments), threatened or endangered animal and plant species, vegetation, visual resources, water resources, wilderness characteristics, and wildlife.

Selma Sierra,
Utah State Director.

[FR Doc. E7-19692 Filed 10-4-07; 8:45 am]

BILLING CODE 4310-DQ-P